DEPARTMENT OF COMMERCE

Economic Development Administration

[Docket No.: 070125020-7021-01]

Solicitation of Applications for the University Center Economic Development Program

AGENCY: Economic Development Administration (EDA), Department of Commerce.

ACTION: Notice; re-open competitive solicitation.

SUMMARY: The Economic Development Administration (EDA) publishes this notice to re-open the competitive solicitation for applications under the University Center Economic Development Program in EDA's Austin and Denver regional offices.

DATES: The new closing date and time for receipt of electronic and paper applications for funding under the FY 2007 University Center Economic Development Program competition is Friday, May 25, 2007 at 4 p.m. local time.

ADDRESSES: Applications may be submitted in two formats: (i) In paper format at the addresses provided below; or (ii) electronically in accordance with the procedures provided on http://www.Grants.gov. The content of the application is the same for paper submissions as it is for electronic submissions. EDA will not accept facsimile transmissions of applications.

Paper Submissions: Applicants in Arkansas, Louisiana, New Mexico, Oklahoma and Texas should submit paper submissions (via postal mail, overnight delivery or hand-delivery) to: FY 2007 University Center Program Competition, Economic Development Administration, Austin Regional Office, 504 Lavaca Street, Suite 1100, Austin, Texas 78701-4037.

Applicants in Colorado, Iowa, Kansas, Missouri, Montana, Nebraska, North Dakota, South Dakota, Utah and Wyoming should submit paper submissions (via postal mail, overnight delivery or hand-delivery) to: FY 2007 University Center Program Competition, Economic Development Administration, Denver Regional Office, 1244 Speer Boulevard, Suite 670, Denver, Colorado 80204-3591.

Electronic Submissions: Applicants may submit applications electronically in accordance with the instructions provided at www.Grants.gov. On http://www.grants.gov/search/basic.do, applicants can perform a “Basic Search” for this grant opportunity by completing the “Keyword Search;” the “Search by Funding Opportunity Number;” or the “Search by CFDA Number” field, and then clicking the “Search” button. The Funding Opportunity Number for this grant opportunity is EDA02142007 and the CFDA number is 11.303.

EDA strongly encourages that applicants not wait until the application closing date to begin the application process through www.Grants.gov. The preferred file format for electronic attachments (e.g., the Project Narrative and exhibits to Form ED-900A) is portable document format (PDF); however, EDA will accept electronic files in Microsoft Word, WordPerfect, Lotus or Excel formats.

Applicants should access the following link for assistance in navigating www.Grants.gov and for a list of useful resources: http://www.grants.gov/applicants/applicant_help.jsp. If you do not find an answer to your question under Frequently Asked Questions, try consulting the Applicant's User Guide. If you still cannot find an answer to your question, contact www.Grants.gov via e-mail at support@grants.gov or telephone at 1.800.518.4726. The hours of operation for www.Grants.gov are Monday-Friday, 7 a.m. to 9 p.m. (EST) (except for federal holidays). For a copy of the FFO announcement for this request for applications, please see the Web site listed below under “Electronic Access.”

FOR FURTHER INFORMATION: For additional information or for a paper copy of the FFO announcement, the designated contact person in the Austin regional office is John Christ. Mr. Christ may be reached at jchrist@eda.doc.gov or at 512.381.8145. The designated contact person in the Denver regional office is Forlesia S. Willis. Ms. Willis may be reached at fwillis@eda.doc.gov or at 303.844.5452. EDA's Internet Web site at www.eda.gov also contains additional information on EDA and its programs, including the University Center Economic Development Program.

SUPPLEMENTARY INFORMATION: On February 2, 2007, EDA published in the Federal Register (72 FR 5002) the original notice regard the FY 2007 University Center Economic Development Program competition. The original deadline for receipt of applications was May 3, 2007 at 4 p.m. local time. EDA re-opens the solicitation period to provide the public more time to submit applications. The new deadline for receipt of electronic and paper applications for funding under the FY 2007 University Center Economic Development Program competition is May 25, 2007 at 4 p.m. local time. All applications that are submitted between May 3, 2007 and the date of publication of this notice will be considered timely. Applicants who submitted all application materials by the original deadline (May 3, 2007 at 4 p.m. local time) may revise their applications in light of the re-opening of the competitive solicitation, but all materials must be received by the Austin or Denver regional offices (as appropriate) by May 25, 2007 at 4 p.m. local time. All other information and requirements for the FY 2007 University Center Economic Development Program competition remain as stated in the February 2, 2007 Federal Register notice (72 FR 5002).

Electronic Access: The FFO announcement for the FY 2007 University Center Economic Development Program competition is available at http://www.Grants.gov. Additional information is available through EDA's Internet Web site at http://www.eda.gov.

Catalog of Federal Domestic Assistance (CFDA) Number: 11.303, Economic Development—Technical Assistance.

Dated: May 4, 2007.
Benjamin Erulkar,
Deputy Assistant Secretary of Commerce for Economic Development.

[FR Doc. E7-8995 Filed 5-9-07; 8:45 am]

BILLING CODE 3510-24-P